DEPARTMENT OF AGRICULTURE

Forest Service

Malheur National Forest, Blue Mountain and Prairie City Ranger Districts and Wallowa-Whitman National Forest, Whitman Ranger District, Oregon; Austin Project

AGENCY: Forest Service, USDA.

ACTION: Notice of intent to prepare an environmental impact statement.

SUMMARY: The USDA Forest Service will prepare an environmental impact statement (EIS) to disclose the environmental effects of watershed and fisheries restoration, upland restoration activities, unique habitat restoration, hazardous fuels buffer treatments, prescribed burning and unplanned ignitions, road activities, and recreation system changes in the Austin planning area. The Forest Service identified the potential need for a project-specific Forest Plan amendment. This notice identifies the Planning Rule provisions likely to be directly related to the plan amendments.

DATES: Comments concerning the scope of the analysis must be received by August 7, 2019. The draft EIS is expected in the spring of 2020 and the final EIS is expected in the fall of 2020.

ADDRESSES: Send written comments to Robert Foxworth, District Ranger, Blue Mountain Ranger District, c/o Kate Cueno, P.O. Box 909, John Day, OR 97845. Comments may also be sent via email to comments-pacificnorthwest-malheur-bluemountain@fs.fed.us, or via facsimile to 541-575-3319.

FOR FURTHER INFORMATION CONTACT: Kate Cueno, National Environmental Policy Act Planner, Blue Mountain Ranger District, 431 Patterson Bridge Road, P.O. Box 909, John Day, OR 97845. Phone: 541-575-3031. Email: klcueno@fs.fed.us.

Individuals who use telecommunication devices for the deaf (TDD) may call the Federal Information Relay Service (FIRS) at 1-800-877-8339 between 8 a.m. and 8 p.m., Eastern Time, Monday through Friday.

SUPPLEMENTARY INFORMATION: The Austin planning area encompasses approximately 78,200 acres in the the Bridge Creek-Middle Fork John Day watershed and the headwaters of the Middle Fork John Day River. The legal description for the planning area includes Townships 10 through 13 South, Ranges 35, 35 ½, and 36 East, Willamette Meridian, Grant County, Oregon. The full scoping package is available on the Malheur National Forest website: https://www.fs.usda.gov/project/?project=53678.

Purpose and Need for Action

The purpose and need for the Austin Project was developed by comparing management objectives and desired conditions in the Malheur Forest Plan to the existing conditions in the Austin Project planning area related to forest and watershed resiliency and biophysical processes and function. Where the Forest Plan information was not explicit, best available science and local research were used in a collaborative setting with stakeholders. The purpose and need is to: (1) Promote watershed health and resiliency, including improved water quality and flow characteristics, riparian vegetation communities, and aquatic habitats to maintain healthy ecological function and process; (2) Maintain and improve diverse forest composition and stocking levels to promote landscape resiliency within a complex disturbance regime of wildfire, drought, insects, and diseases; (3) Improve wildlife habitat, including critical wildlife habitat types, big game security areas, and old forest habitat; (4) Promote forest conditions that allow for the reintroduction of fire upon the landscape where naturally occurring fire has been excluded. Create conditions conducive to firefighter and public safety to improve the ability to protect the public and private land interface, and natural resource values; (5) Move toward a safe and sustainable minimum road system that is environmentally and economically sustainable, including consideration of the interaction of the road network and the stream network; and (6) Contribute to the region's social and economic vitality by promoting multiple uses in the Austin planning area, such as providing a variety of wood products, improving conditions of grazing allotments, enhancing recreational opportunities, and preserving local cultural history.

Proposed Action

The proposed action to address the purpose and need includes:

(1) Watershed and fisheries restoration (approximately 3,710 acres) to promote watershed health and resiliency. Activity types include thinning along perennial and seasonally flowing streams with or without anadromous fish habitat, tipping and felling trees directly into streams, and removing encroaching conifers from 30 riparian meadow areas.

(2) Upland restoration activites (approximately 35,720 acres) to maintain and improve diverse forest composition and stocking to promote landscape resiliency. Activities include commercial thinning (dry forest ponderosa pine, dry forest mixed conifer, and moist forest restoration), biomass treatment, and non-commercial thinning.

(3) Unique habitat restoration (approximately 840 acres) to improve critical wildlife habitat. Activities include aspen, mountain mahogany, and upland meadow restoration which would include tipping, felling, jackstrawing, hinging, and/or removing conifers that are encroaching into these habitat types.

(4) Hazardous fuels buffer treatments (approximately 3,240 acres) to promote forest conditions that allow for the reintroduction of fire on the landscape and create conditions conducive to firefighter and public safety. Activities include hazardous fuels buffer treatments (commercial harvest, post and pole or firewood sales, non-commercial thinning, piling, mastication, chipping, pile burning, underburning, jackpot burning, and biochar) along the boundaries of public and private lands, US Highway 26, and Oregon Highway 7.

(5) Prescribed burning and unplanned ignitions (approximately 76,700 acres) to allow for the reintroduction of fire on the landscape and create conditions conducive to firefighter and public safety. Approximately 790 acres of prescribed burning would occur outside the Austin planning area, including 110 acres on the Wallowa-Whitman National Forest, in order to incorporate roads and natural barriers for containment to reduce resource damange and increase firefighter safety. Treated stands would see a combination of burning piled material and underburning. Stands not mechanically treated would be managed primarily with the use of prescribed burning. As conditions and stand characteristics allow, unplanned ignitions within the planning area would be used to meet the objectives of prescribed burning.

(6) Road activities and road system changes to facilitate restoration activities, improve road conditions, and promote watershed health. Road maintenance and road construction for haul would occur on open and closed National Forest System roads to provide safe access and adequate drainage; some state highways may also be used. Temporary roads (approximately 43 miles) would be constructed to access some timber harvest units, which would be rehabilitated following use. The following road system changes are proposed: Closing 57 miles of currently open road, confirming the previous administrative closure of 31 miles of road, returning 11 miles of existing roadbed to the system as closed roads, opening 6.5 miles of road, relocating 1.2 miles of road out of a stream floodplain, decommissioning 13 miles of road (and providing alternate route access by opening roads as already described and with 0.3 miles of new road construction), and converting 1.2 miles of open road to trail. Disposal sites for excess material from road work and expansion of two rock pits are also proposed.

(7) Recreation system changes to enhance recreational opportunties and interpret local history. Activities include recreation site and trail developments, intepretive sign installation, and Dixie Campground hazard fuels reduction.

Preliminary wildlife connectivity corridors and security areas have been identified between late and old structure stands to allow for movement of old-growth dependent species and provide security for big game.

The Austin Project will also include a variety of project design criteria that serve to mitigate impacts of activities to forest resources, including: Wildlife, soils, watershed condition, aquatic species, riparian habitat conservation areas, heritage resources, visuals, rangeland, botanical resources, and invasive plants. The proposed action may also amend plan components in the Malheur Forest Plan, as amended: Dedicated old growth unit changes, reduce satisfactory and/or total cover, removal of trees greater than or equal to 21 inches diameter at breast height, harvest within late and old structure stands, and not maintaining connectivity between all late and old structure and old growth stands.

When proposing a Forest Plan amendment, the 2012 planning rule (36 CFR 219), as amended, requires the responsible official to provide in the initial notice “which substantive requirements of 36 CFR 219.8 through 219.11 are likely to be directly related to an amendment” (36 CFR 219.13(b)(2)). The following substantive requirements of the 36 CFR 219 planning regulations would likely be directly related to the proposed amendment:

§ 219.8(a)(1)(ii) Contributions of the plan area to ecological conditions within the broader landscape influenced by the plan area;

§ 219.8(a)(1)(iii) Conditions in the broader landscape that may influence the sustainability of resources and ecosystems within the plan area;

§ 219.8(a)(1)(iv) [. . .] the ability of terrestrial and aquatic ecosystems on the plan area to adapt to change;

§ 219.8(a)(1)(v) [. . .] opportunities to restore fire adapted ecosystems;

§ 219.8(a)(1)(vi) Opportunities for landscape scale restoration;

§ 219.9(a)(1) Ecosystem integrity. [. . .maintain or restore the ecological integrity of terrestrial and aquatic ecosystems and watersheds in the plan area, including plan components to maintain or restore their structure, function, composition, and connectivity];

§ 219.9(a)(2) Ecosystem diversity. [. . . maintain or restore the diversity of ecosystems and habitat types throughout the plan area];

§ 219.9(a)(2)(i) Key characteristics associated with terrestrial and aquatic ecosystem types;

§ 219.10(a)(1) [. . . to provide for ecosystem services and multiple uses in the plan area the responsible official shall consider: Aesthetic values, habitat and habitat connectivity, timber, vegetation, viewsheds, and other relevant resources and uses];

§ 219.10(a)(5) Habitat conditions, subject to the requirements of § 219.9, for wildlife, fish, and plants commonly enjoyed and used by the public; for hunting, fishing, trapping, gathering, observing, subsistence, and other activities (in collaboration with federally recognized Tribes, Alaska Native Corporations, other Federal agencies, and State and local governments);

§ 219.10(a)(7) Reasonably foreseeable risks to ecological, social, and economic sustainability.

§ 219.10(a)(8) [. . .] the ability of the terrestrial and aquatic ecosystems on the plan area to adapt to change (§ 219.8).

If the proposed project-specific amendments are determined to be directly related to the substantive rule requirements, the responsible official must apply those requirements within the scope and scale of the amendment (36 CFR 219.13(b)(5) and (6)).

Responsible Official

The Forest Supervisor of the Malheur National Forest is the Responsible Official.

Nature of Decision To Be Made

Based on the purpose and need, the Responsible Official will review the proposed action, the other alternatives, the environmental consequences, and public comments in order to make the decision: (1) Whether to implement the proposed activities; and if so, how much and at what specific locations; (2) What, if any, specific project monitoring requirements are needed to assure project design criteria and mitigation measures are implemented and effective, and to evaluate the success of the project objectives.

Scoping Process

This notice of intent initiates the scoping process, which guides the development of the environmental impact statement. The interdisciplinary team will continue to seek information and comments from Federal, State, and local agencies, Tribal governments, and other individuals or organizations that may be interested in, or affected by, the proposed action. There is a collaborative group in the area that the interdisciplinary team will interact with during the analysis process.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however, anonymous comments will not afford the Agency with the ability to provide the respondent with subsequent environmental documents, nor will those who submit anonymous comments have standing to object to the subsequent decision under 36 CFR 218.

Dated: May 16, 2019.
Frank R. Beum,
Acting Associate Deputy Chief, National Forest System.

[FR Doc. 2019-14388 Filed 7-5-19; 8:45 am]

BILLING CODE 3411-15-P